DEPARTMENT OF AGRICULTURE

Grain Inspection, Packers and Stockyards Administration

Designation for the Champaign (IL), Detroit (MI), Davenport (IA), Enid (OK), Keokuk (IA), Michigan (MI), Memphis (TN), and Omaha (NE) Areas

AGENCY: Grain Inspection, Packers and Stockyards Administration, USDA.

ACTION: Notice.

SUMMARY: We are announcing designation of the following organizations to provide official services under the United States Grain Standards Act, as amended (USGSA):

Champaign-Danville Grain Inspection Departments, Inc. (Champaign);

Detroit Grain Inspection Service, Inc. (Detroit);

Eastern Iowa Grain Inspection and Weighing Service, Inc. (Eastern Iowa);

Enid Grain Inspection Company, Inc. (Enid);

Keokuk Grain Inspection Service (Keokuk);

Michigan Grain Inspection Services, Inc. (Michigan);

Midsouth Grain Inspection Service (Midsouth); and

Omaha Grain Inspection Service, Inc. (Omaha).

EFFECTIVE DATE: April 1, 2007.

FOR FURTHER INFORMATION CONTACT: Karen Guagliardo at 202-720-7312, e-mail Karen.W.Guagliardo@usda.gov.

SUPPLEMENTARY INFORMATION: In the September 7, 2006 Federal Register (71 FR 52761-52764), we requested applications for designation to provide official services in the geographic areas assigned to the official agencies named above. Applications were due by October 10, 2006.

Champaign, Detroit, Eastern Iowa, Enid, Keokuk, Michigan, Midsouth and Omaha were the sole applicants for designation to provide official services in the entire area currently assigned to them, so GIPSA did not ask for additional comments on them.

We evaluated all available information regarding the designation criteria in Section 7(f)(1)(A) of USGSA (7 U.S.C. 79(f)) and Section 7(f)(1)(B), determined that Champaign, Detroit, Eastern Iowa, Enid, Keokuk, Michigan and Omaha are able to provide official services in the geographic areas specified in the September 7, 2006 Federal Register, for which they applied. These designation actions to provide official services are effective April 1, 2007, and terminate March 31, 2010, for Champaign, Detroit, Eastern Iowa, Enid, Keokuk, Michigan and Omaha. Midsouth is designated for 2 years only, effective April 1, 2007, and terminating March 31, 2009. Interested persons may obtain official services by calling the telephone numbers listed below.

Official agency | Headquarters location and telephone | Designation start—end
Champaign | Champaign, IL, 217-398-0723; Additional locations: Hoopeston, IL, and Terre Haute, IN | 4/01/2007-3/31/2010
Detroit | Emmett, MI, 810-395-2105 | 4/01/2007-3/31/2010
Eastern Iowa | Davenport, IA, 563-322-7140; Additional locations: Dubuque and Muscatine, IA; Gulfport, IL; Milwaukee, WI | 4/01/2007-3/31/2010
Enid | Enid, OK, 580-233-1121; Additional location: Catoosa, OK | 4/01/2007-3/31/2010
Keokuk | Keokuk, IA, 319-524-6482; Additional location: Havana, IL | 4/01/2007-3/31/2010
Michigan | Marshall, MI, 269-781-2711; Additional locations: Cairo, OH, and Carrollton, MI | 4/01/2007-3/31/2010
Midsouth | Memphis, TN, 901-942-3216; Additional locations: Stoneville, MS; North Little Rock, AK | 4/01/2007-3/31/2009
Omaha | Omaha, NE, 402-341-6739 | 4/01/2007-3/31/2010

Authority: Pub. L. 94-582, 90 Stat. 2867, as amended (7 U.S.C. 71 et seq.).

James E. Link,
Administrator, Grain Inspection, Packers and Stockyards Administration.

[FR Doc. E7-4091 Filed 3-6-07; 8:45 am]

BILLING CODE 3410-KD-P